SUSQUEHANNA RIVER BASIN COMMISSION

Notice of Projects Approved for Consumptive Uses of Water

AGENCY: Susquehanna River Basin Commission.

ACTION: Notice of approved projects.

SUMMARY: This notice lists the projects approved by rule by the Susquehanna River Basin Commission during the period set forth in DATES.

DATES: August 1, 2010, through August 31, 2010.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(e) and 18 CFR 806.22(f) for the time period specified above:

Approvals By Rule Issued Under 18 CFR 806.22(e):

1. Johnson & Johnson, Pad ID: McNeil PPC Facility, ABR-201008002, Lititz Borough, Lancaster County, Pa.; Consumptive Use of up to 0.350 mgd; Approval Date: August 3, 2010.

Approvals By Rule Issued Under 18 CFR 806.22(f):

1. Citrus Energy Corporation, Pad ID: Ruark East 1 1H, ABR-201008001, Washington Township, Wyoming County, Pa.; Consumptive Use of up to 5.000 mgd; Approval Date: August 1, 2010.

2. East Resources Management, LLC, Pad ID: McNett 708, ABR-201008003, Liberty Township, Tioga County, Pa.; Consumptive Use of up to 4.000 mgd; Approval Date: August 3, 2010.

3. East Resources Management, LLC, Pad ID: Clark 392, ABR-201008004, Delmar Township, Tioga County, Pa.; Consumptive Use of up to 4.000 mgd; Approval Date: August 3, 2010.

4. East Resources Management, LLC, Pad ID: Miller 394, ABR-201008005, Delmar Township, Tioga County, Pa.; Consumptive Use of up to 4.000 mgd; Approval Date: August 3, 2010.

5. Carrizo Marcellus, LLC, Pad ID: Bonnice, ABR-201008006, Jessup Township, Susquehanna County, Pa.; Consumptive Use of up to 1.400 mgd; Approval Date: August 3, 2010.

6. Anadarko E&P Company, LP, Pad ID: COP Tract 285 Pad F, ABR-201008007, Chapman Township, Clinton County, Pa.; Consumptive Use of up to 3.000 mgd; Approval Date: August 3, 2010, including a partial waiver of 18 CFR 806.15.

7. Chief Oil & Gas, LLC, Pad ID: Marquardt Drilling Pad #1, ABR-201008008, Davidson Township, Sullivan County, Pa.; Consumptive Use of up to 2.000 mgd; Approval Date: August 3, 2010.

8. Cabot Oil & Gas Corporation, Pad ID: PlonskiJ P1, ABR-201008009, Brooklyn Township, Susquehanna County, Pa.; Consumptive Use of up to 3.575 mgd; Approval Date: August 3, 2010.

9. Chesapeake Appalachia, LLC, Pad ID: Warren, ABR-201008010, Windham Township, Wyoming County, Pa.; Consumptive Use of up to 7.500 mgd; Approval Date: August 3, 2010.

10. Chesapeake Appalachia, LLC, Pad ID: Lambert Farms, ABR-201008011, Forks Township, Sullivan County, Pa.; Consumptive Use of up to 7.500 mgd; Approval Date: August 3, 2010.

11. Chesapeake Appalachia, LLC, Pad ID: Lee, ABR-201008012, Asylum Township, Bradford County, Pa.; Consumptive Use of up to 7.500 mgd; Approval Date: August 3, 2010.

12. Anadarko E&P Company, LP, Pad ID: COP Tract 285 Pad D, ABR-201008013, Chapman Township, Clinton County, Pa.; Consumptive Use of up to 3.000 mgd; Approval Date: August 2, 2010.

13. Cabot Oil & Gas Corporation, Pad ID: WoodW P1, ABR-201008014, Jessup Township, Susquehanna County, Pa.; Consumptive Use of up to 3.575 mgd; Approval Date: August 2, 2010.

14. Chesapeake Appalachia, LLC, Pad ID: Slumber Valley, ABR-201008015, Meshoppen Township, Wyoming County, Pa.; Consumptive Use of up to 7.500 mgd; Approval Date: August 3, 2010.

15. Anadarko E&P Company, LP, Pad ID: Charles J McNamee Pad B, ABR-201008016, Cascade Township, Lycoming County, Pa.; Consumptive Use of up to 3.000 mgd; Approval Date: August 3, 2010.

16. Anadarko E&P Company, LP, Pad ID: Elbow Pad C, ABR-201008017, Cogan House Township, Lycoming County, Pa.; Consumptive Use of up to 3.000 mgd; Approval Date: August 3, 2010.

17. Anadarko E&P Company, LP, Pad ID: COP Tract 285 Pad H, ABR-201008018, Chapman Township, Clinton County, Pa.; Consumptive Use of up to 3.000 mgd; Approval Date: August 3, 2010, including a partial waiver of 18 CFR 806.15.

18. Anadarko E&P Company, LP, Pad ID: COP Tract 344 Pad B, ABR-201008019, Grugan Township, Clinton County, Pa.; Consumptive Use of up to 3.000 mgd; Approval Date: August 3, 2010, including a partial waiver of 18 CFR 806.15.

19. Anadarko E&P Company, LP, Pad ID: COP Tract 356 Pad H, ABR-201008020, Cummings Township, Lycoming County, Pa.; Consumptive Use of up to 3.000 mgd; Approval Date: August 3, 2010, including a partial waiver of 18 CFR 806.15.

20. Anadarko E&P Company, LP, Pad ID: Jack L Hipple Pad A, ABR-201008021, Gamble Township, Lycoming County, Pa.; Consumptive Use of up to 3.000 mgd; Approval Date: August 3, 2010.

21. Talisman Energy USA, Inc., Pad ID: 05 009 Alderson V, ABR-201008022, Pike Township, Bradford County and Middletown Township, Susquehanna County, Pa.; Consumptive Use of up to 6.000 mgd; Approval Date: August 3, 2010.

22. Talisman Energy USA, Inc., Pad ID: 02 100 Detweiler R, ABR-201008023, Covington Township, Tioga County, Pa.; Consumptive Use of up to 6.000 mgd; Approval Date: August 3, 2010.

23. Anadarko E&P Company, LP, Pad ID: Maurice D Bieber Pad A, ABR-201008024, Cascade Township, Lycoming County, Pa.; Consumptive Use of up to 3.000 mgd; Approval Date: August 3, 2010.

24. Chesapeake Appalachia, LLC, Pad ID: Joanclark, ABR-201008025, Fox Township, Sullivan County, Pa.; Consumptive Use of up to 7.500 mgd; Approval Date: August 4, 2010.

25. Chesapeake Appalachia, LLC, Pad ID: Felter-NEW, ABR-201008026, Wyalusing Township, Bradford County, Pa.; Consumptive Use of up to 7.500 mgd; Approval Date: August 5, 2010.

26. EOG Resources, Inc., Pad ID: COP Pad C, ABR-201008027, Lawrence Township, Clearfield County, Pa.; Consumptive Use of up to 4.999 mgd; Approval Date: August 6, 2010, including a partial waiver of 18 CFR 806.15.

27. Anadarko E&P Company, LP, Pad ID: Don J Davis Pad A, ABR-201008028, Gamble Township, Lycoming County, Pa.; Consumptive Use of up to 3.000 mgd; Approval Date: August 6, 2010.

28. Anadarko E&P Company, LP, Pad ID: COP Tract 290 Pad B, ABR-201008029, McHenry Township, Lycoming County, Pa.; Consumptive Use of up to 3.000 mgd; Approval Date: August 6, 2010, including a partial waiver of 18 CFR 806.15.

29. Anadarko E&P Company, LP, Pad ID: COP Tract 289 Pad D, ABR-201008030, McHenry Township, Lycoming County, Pa.; Consumptive Use of up to 3.000 mgd; Approval Date: August 6, 2010, including a partial waiver of 18 CFR 806.15.

30. East Resources Management, LLC, Pad ID: Heyler 748, ABR-201008031, Morris and Liberty Township, Tioga County, Pa.; Consumptive Use of up to 4.000 mgd; Approval Date: August 6, 2010.

31. East Resources Management, LLC, Pad ID: Bauer 849, ABR-201008032, Middlebury Township, Tioga County, Pa.; Consumptive Use of up to 4.000 mgd; Approval Date: August 6, 2010.

32. East Resources Management, LLC, Pad ID: Davis 829, ABR-201008033, Farmington Township, Tioga County, Pa.; Consumptive Use of up to 4.000 mgd; Approval Date: August 6, 2010.

33. East Resources Management, LLC, Pad ID: Fish 301, ABR-201008034, Richmond Township, Tioga County, Pa.; Consumptive Use of up to 4.000 mgd; Approval Date: August 6, 2010.

34. EOG Resources, Inc., Pad ID: SG Pad P, ABR-201008035, Jones Township, Elk County, Pa.; Consumptive Use of up to 4.999 mgd; Approval Date: August 6, 2010, including a partial waiver of 18 CFR 806.15.

35. Talisman Energy USA, Inc., Pad ID: 02 202 DCNR 594, ABR-201008036, Liberty Township, Tioga County, Pa.; Consumptive Use of up to 6.000 mgd; Approval Date: August 6, 2010

36. Talisman Energy USA, Inc., Pad ID: 02 201 DCNR 594, ABR-201008037, Liberty Township, Tioga County, Pa.; Consumptive Use of up to 6.000 mgd; Approval Date: August 6, 2010.

37. Chesapeake Appalachia, LLC, Pad ID: Lattimer, ABR-201008038, Litchfield Township, Bradford County, Pa.; Consumptive Use of up to 7.500 mgd; Approval Date: August 6, 2010.

38. Chesapeake Appalachia, LLC, Pad ID: Danilchuk, ABR-201008039, Wilmot Township, Bradford County, Pa.; Consumptive Use of up to 7.500 mgd; Approval Date: August 11, 2010.

39. Talisman Energy USA, Inc., Pad ID: 02 205 DCNR 594, ABR-201008040, Bloss Township, Tioga County, Pa.; Consumptive Use of up to 6.000 mgd; Approval Date: August 9, 2010.

40. Talisman Energy USA, Inc., Pad ID: 02 204 DCNR 594, ABR-201008041, Bloss Township, Tioga County, Pa.; Consumptive Use of up to 6.000 mgd; Approval Date: August 9, 2010.

41. Talisman Energy USA, Inc., Pad ID: 02 203 DCNR 594, ABR-201008042, Liberty Township, Tioga County, Pa.; Consumptive Use of up to 6.000 mgd; Approval Date: August 9, 2010.

42. Seneca Resources Corporation, Pad ID: DCNR Tract 595 Pad I, ABR-201008043, Bloss Township, Tioga County, Pa.; Consumptive Use of up to 4.000 mgd; Approval Date: August 9, 2010.

43. Seneca Resources Corporation, Pad ID: DCNR Tract 595 Pad F, ABR-201008044, Bloss Township, Tioga County, Pa.; Consumptive Use of up to 4.000 mgd; Approval Date: August 9, 2010, including a partial waiver of 18 CFR 806.15.

44. Seneca Resources Corporation, Pad ID: DCNR Tract 007 1H, ABR-201008045, Shippen Township, Tioga County, Pa.; Consumptive Use of up to 4.000 mgd; Approval Date: August 10, 2010, including a partial waiver of 18 CFR § 806.15.

45. EOG Resources, Inc., Pad ID: WOOD 1H Pad, ABR-201008046, Ridgebury Township, Bradford County, Pa.; Consumptive Use of up to 4.999 mgd; Approval Date: August 10, 2010.

46. EOG Resources, Inc., Pad ID: Otten Pad, ABR-201008047, Ridgebury Township, Bradford County, Pa.; Consumptive Use of up to 4.999 mgd; Approval Date: August 10, 2010.

47. EOG Resources, Inc., Pad ID: REITER 1H Pad, ABR-201008048, Ridgebury Township, Bradford County, Pa.; Consumptive Use of up to 4.999 mgd; Approval Date: August 10, 2010.

48. EOG Resources, Inc., Pad ID: SGL 90A Pad, ABR-201008049, Lawrence Township, Clearfield County, Pa.: Consumptive Use of up to 4.999 mgd; Approval Date: August 30, 2010.

49. Chesapeake Appalachia, LLC, Pad ID: Moore Farm, ABR-201008050, Canton Township, Bradford County, Pa.; Consumptive Use of up to 7.500 mgd; Approval Date: August 10, 2010.

50. Pennsylvania General Energy Co., LLC, Pad ID: COP Tract 729 Pad C, ABR-201008051, Cummings Township, Lycoming County, Pa.; Consumptive Use of up to 3.000 mgd; Approval Date: August 10, 2010, including a partial waiver of 18 CFR § 806.15.

51. Pennsylvania General Energy Co., LLC, Pad ID: COP Tract 729 Pad D, ABR-201008052, Cummings Township, Lycoming County, Pa.; Consumptive Use of up to 3.000 mgd; Approval Date: August 10, 2010, including a partial waiver of 18 CFR 806.15.

52. EOG Resources, Inc., Pad ID: GARVER Pad, ABR-201008053, Ridgebury Township, Bradford County, Pa.; Consumptive Use of up to 4.999 mgd; Approval Date: August 10, 2010.

53. EOG Resources, Inc., Pad ID: JANOWSKY 1H, ABR-201008054, Ridgebury Township, Bradford County, Pa.; Consumptive Use of up to 4.999 mgd: Approval Date: August 10, 2010.

54. Anadarko E&P Company, LP, Pad ID: Elbow Pad A, ABR-201008055, Cogan House Township, Lycoming County, Pa.; Consumptive Use of up to 3.000 mgd; Approval Date: August 10, 2010.

55. Anadarko E&P Company, LP, Pad ID: Brian K Frymire Pad A, ABR-201008056, Cascade Township, Lycoming County, Pa.; Consumptive Use of up to 3.000 mgd; Approval Date: August 10, 2010.

56. Anadarko E&P Company, LP, Pad ID: Thomas E Smith Pad A, ABR-201008057, Gamble Township, Lycoming County, Pa.; Consumptive Use of up to 3.000 mgd; Approval Date: August 11, 2010.

57. EXCO Resources (PA), Inc., Pad ID: COP Tract 706 (Pad 7), ABR-201008058, Burnside Township, Centre County, Pa.; Consumptive Use of up to 8.000 mgd; Approval Date: August 10, 2010, including a partial waiver of 18 CFR 806.15.

58. EXCO Resources (PA), Inc., Pad ID: COP Tract 706 (Pad 8), ABR-201008059, Burnside Township, Centre County, Pa.; Consumptive Use of up to 8.000 mgd; Approval Date: August 10, 2010, including a partial waiver of 18 CFR 806.15.

59. EXCO Resources (PA), Inc., Pad ID: COP Tract 706 (Pad 9), ABR-201008060, Burnside Township, Centre County, Pa.; Consumptive Use of up to 8.000 mgd; Approval Date: August 10, 2010, including a partial waiver of 18 CFR 806.15.

60. EXCO Resources (PA), Inc., Pad ID: COP Tract 706 (Pad 10), ABR-201008061, Burnside Township, Centre County, Pa.; Consumptive Use of up to 8.000 mgd; Approval Date: August 10, 2010, including a partial waiver of 18 CFR § 806.15.

61. EXCO Resources (PA), Inc., Pad ID: COP Tract 706 (Pad 25), ABR-201008062, Burnside Township, Centre County, Pa.; Consumptive Use of up to 8.000 mgd; Approval Date: August 10, 2010, including a partial waiver of 18 CFR 806.15.

62. EOG Resources, Inc., Pad ID: Manzek Land Pad, ABR-201008063, Ridgebury Township, Bradford County, Pa.; Consumptive Use of up to 4.999 mgd: Approval Date: August 11, 2010.

63. Seneca Resources Corporation, Pad ID: Wolfinger Pad A, ABR-201008064, Shippen Township, Cameron County, Pa.; Consumptive Use of up to 4.000 mgd; Approval Date: August 11, 2010.

64. Seneca Resources Corporation, Pad ID: Covington Pad L, ABR-201008065, Covington Township, Tioga County, Pa.; Consumptive Use of up to 4.000 mgd; Approval Date: August 11, 2010.

65. Chesapeake Appalachia, LLC, Pad ID: Atgas, ABR-201008066, Leroy Township, Bradford County, Pa.; Consumptive Use of up to 7.500 mgd; Approval Date: August 10, 2010.

66. Chesapeake Appalachia, LLC, Pad ID: Roundtop, ABR-201008067, Colley Township, Sullivan County, Pa.; Consumptive Use of up to 7.500 mgd; Approval Date: August 11, 2010, including a partial waiver of 18 CFR 806.15.

67. Chesapeake Appalachia, LLC, Pad ID: Aikens, ABR-201008068, Litchfield Township, Bradford County, Pa.; Consumptive Use of up to 7.500 mgd; Approval Date: August 10, 2010.

68. Talisman Energy USA, Inc., Pad ID: DCNR 587 02 003, ABR-201008069, Ward Township, Tioga County, Pa.; Consumptive Use of up to 6.000 mgd; Approval Date: August 11, 2010, including a partial waiver of 18 CFR 806.15.

69. Talisman Energy USA, Inc., Pad ID: 02 012 DCNR 587, ABR-201008070, Ward Township, Tioga County, Pa.; Consumptive Use of up to 6.000 mgd; Approval Date: August 11, 2010, including a partial waiver of 18 CFR 806.15.

70. Talisman Energy USA, Inc., Pad ID: 02 016 DCNR 587, ABR-201008071, Ward Township, Tioga County, Pa.; Consumptive Use of up to 6.000 mgd; Approval Date: August 11, 2010, including a partial waiver of 18 CFR 806.15.

71. Talisman Energy USA, Inc., Pad ID: DCNR 587 02 019, ABR-201008072, Ward Township, Tioga County, Pa.; Consumptive Use of up to 6.000 mgd; Approval Date: August 11, 2010, including a partial waiver of 18 CFR 806.15.

72. East Resources Management, LLC, Pad ID: Fuleihan 417, ABR-201008073, Delmar Township, Tioga County, Pa.; Consumptive Use of up to 4.000 mgd; Approval Date: August 11, 2010.

73. East Resources Management, LLC, Pad ID: Baker 897, ABR-201008074, Deerfield Township, Tioga County, Pa.; Consumptive Use of up to 4.000 mgd; Approval Date: August 11, 2010.

74. Range Resources—Appalachia, LLC, Pad ID: Gulf USA #40H Drilling Pad, ABR-201008075, Snow Shoe Township, Centre County, Pa.; Consumptive Use of up to 5.000 mgd; Approval Date: August 11, 2010.

75. Talisman Energy USA, Inc., Pad ID: 05-003 Edsell C, ABR-201008076, Pike Township, Bradford County, Pa.; Consumptive Use of up to 6.000 mgd; Approval Date: August 11, 2010.

76. Anadarko E&P Company, LP, Pad ID: George E Hagemeyer Pad A, ABR-201008077, Gamble Township, Lycoming County, Pa.; Consumptive Use of up to 3.000 mgd; Approval Date: August 11, 2010.

77. Anadarko E&P Company, LP, Pad ID: Wallis Run HC Pad A, ABR-201008078, Cascade Township, Lycoming County, Pa.; Consumptive Use of up to 3.000 mgd; Approval Date: August 12, 2010.

78. EOG Resources, Inc. Pad ID: KINGSLEY 4H, ABR-201008079, Springfield Township, Bradford County, Pa.; Consumptive Use of up to 4.999 mgd; Approval Date: August 12, 2010.

79. EOG Resources, Inc. Pad ID: KINGSLEY 5H, ABR-201008080, Springfield Township, Bradford County, Pa.; Consumptive use of Up to 4.999 mgd; Approval Date: August 12, 2010.

80. EOG Resources, Inc. Pad ID: KINGSLEY 6H, ABR-201008081, Springfield Township, Bradford County, Pa.; Consumptive Use of up to 4.999 mgd; Approval Date: August 12, 2010.

81. EOG Resources, Inc. Pad ID: Rightmire 1H Pad, ABR-201008082, Ridgebury Township, Bradford County, Pa.; Consumptive Use of up to 4.999 mgd; Approval Date: August 12, 2010.

82. EOG Resources, Inc. Pad ID: RIGHTMIRE 2H Pad, ABR-201008083, Ridgebury Township, Bradford County, Pa.; Consumptive Use of up to 4.999 mgd; Approval Date: August 12, 2010.

83. EOG Resources, Inc. Pad ID: Beardslee 1V Pad, ABR-201008084, Springfield Township, Bradford County, Pa.; Consumptive Use of up to 4.999 mgd; Approval Date: August 12, 2010.

84. EOG Resources, Inc. Pad ID: BEARDSLEE 2H Pad, ABR-201008085, Springfield Township, Bradford County, Pa.; Consumptive Use of up to 4.999 mgd; Approval Date: August 12, 2010.

85. EOG Resources, Inc. Pad ID: Dodge Pad, ABR-201008086, Springfield Township, Bradford County, Pa.; Consumptive Use of up to 4.999 mgd; Approval Date: August 12, 2010.

86. EOG Resources, Inc. Pad ID: MELCHIONNE 1H Pad, ABR-201008087, Ridgebury Township, Bradford County, Pa.; Consumptive Use of up to 4.999 mgd; Approval Date: August 12, 2010.

87. Southwestern Energy Production Company, Pad ID: Chamberlin, ABR-201008088, Stevens Township, Bradford County, Pa.; Consumptive Use of up to 4.990 mgd; Approval Date: August 12, 2010.

88. Talisman Energy USA, Inc., Pad ID: Roy 03 062, ABR-201008089, Wells Township, Bradford County, Pa.; Consumptive Use of up to 6.000 mgd; Approval Date: August 12, 2010.

89. EOG Resources, Inc. Pad ID: NICHOLS 1H Pad, ABR-201008090, Smithfield Township, Bradford County, Pa.; Consumptive Use of up to 4.999 mgd; Approval Date: August 12, 2010.

90. EOG Resources, Inc. Pad ID: SEAMAN 1H Pad, ABR-201008091, Ridgebury Township, Bradford County, Pa.; Consumptive Use of up to 4.999 mgd; Approval Date: August 12, 2010.

91. EOG Resources, Inc. Pad ID: McKEE Pad, ABR-201008092, Ridgebury Township, Bradford County, Pa.; Consumptive Use of up to 4.999 mgd; Approval Date: August 12, 2010.

92. EOG Resources, Inc. Pad ID: Furman Pad, ABR-201008093, Springfield Township, Bradford County, Pa.; Consumptive Use of up to 4.999 mgd; Approval Date: August 12, 2010.

93. EOG Resources, Inc. Pad ID: HAVEN 2H, ABR-201008094, Springfield Township, Bradford County, Pa.; Consumptive Use of up to 4.999 mgd; Approval Date: August 12, 2010.

94. Chesapeake Appalachia, LLC, Pad ID: Boyles, ABR-201008095, Elkland Township, Sullivan County, Pa.; Consumptive Use of up to 7.500 mgd; Approval Date: August 12, 2010.

95. Chesapeake Appalachia, LLC, Pad ID: Donna, ABR-201008096, Terry Township, Bradford County, Pa.; Consumptive Use of up to 7.500 mgd; Approval Date: August 13, 2010.

96. Carrizo Marcellus, LLC, Pad ID: Shields Well Pad, ABR-201008097, Monroe Township, Wyoming County, Pa.; Consumptive Use of up to 1.400 mgd; Approval Date: August 13, 2010.

97. EOG Resources, Inc. Pad ID: Gross 1H Pad, ABR-201008098, Springfield Township, Bradford County, Pa.; Consumptive Use of up to 4.999 mgd; Approval Date: August 13, 2010.

98. Chesapeake Appalachia, LLC, Pad ID: Ammerman, ABR-201008099, Litchfield Township, Bradford County, Pa.; Consumptive Use of up to 7.500 mgd; Approval Date: August 13, 2010.

99. EOG Resources, Inc. Pad ID: JOHNSON Pad, ABR-201008100, Ridgebury Township, Bradford County, Pa.; Consumptive Use of up to 4.999 mgd; Approval Date: August 13, 2010.

100. Chesapeake Appalachia, LLC, Pad ID: George, ABR-201008101, Windham Township, Wyoming County, Pa.; Consumptive Use of up to 7.500 mgd; Approval Date: August 13, 2010.

101. Williams Production Appalachia LLC, Pad ID: S. Farver 1V, ABR-201008102, Benton Township, Columbia County, Pa.; Consumptive Use of up to 4.000 mgd; Approval Date: August 13, 2010.

102. EOG Resources, Inc. Pad ID: CASEMAN 1H, ABR-201008103, Springfield Township, Bradford County, Pa.; Consumptive Use of up to 4.999 mgd; Approval Date: August 13, 2010.

103. EOG Resources, Inc. Pad ID: CASEMAN 2H, ABR-201008104, Springfield Township, Bradford County, Pa.; Consumptive Use of up to 4.999 mgd; Approval Date: August 13, 2010.

104. EOG Resources, Inc. Pad ID: Lee 4H, ABR-201008105, Springfield Township, Bradford County, Pa.; Consumptive Use of up to 4.999 mgd; Approval Date: August 16, 2010.

105. EOG Resources, Inc. Pad ID: Kingsley 7V Pad, ABR-201008106, Springfield Township, Bradford County, Pa.; Consumptive Use of up to 4.999 mgd; Approval Date: August 16, 2010.

106. Chesapeake Appalachia, LLC, Pad ID: Dave, ABR-201008107, Albany Township, Bradford County, Pa.; Consumptive Use of up to 7.500 mgd; Approval Date: August 16, 2010.

107. Cabot Oil & Gas Corporation, Pad ID: Ramey P1, ABR-201008108, Dimock Township, Susquehanna County, Pa.; Consumptive Use of up to 3.575 mgd; Approval Date: August 16, 2010.

108. EOG Resources, Inc. Pad ID: GEROULD Pad, ABR-201008109, Ridgebury Township, Bradford County, Pa.; Consumptive Use of up to 4.999 mgd; Approval Date: August 16, 2010.

109. Talisman Energy USA, Inc., Pad ID: 05 027 Nekoranik, ABR-201008110, Pike Township, Bradford County, Pa.; Consumptive Use of up to 6.000 mgd; Approval Date: August 16, 2010.

110. Talisman Energy USA, Inc., Pad ID: 05 039 Powell Trust, ABR-201008111, Warren Township, Bradford County, Pa.; Consumptive Use of up to 6.000 mgd; Approval Date: August 16, 2010.

111. Energy Corporation of America, Pad ID: Whitetail #1-5MH, ABR-201008112, Goshen Township and Girard Township, Clearfield County, Pa.; Consumptive Use of up to 1.980 mgd; Approval Date: August 16, 2010.

112. Talisman Energy USA, Inc., Pad ID: 05 045 Mountain Paradise Club LLC, ABR-201008113, Warren Township, Bradford County, Pa.; Consumptive Use of up to 6.000 mgd; Approval Date: August 16, 2010.

113. Cabot Oil & Gas Corporation, Pad ID: Maiolini P2, ABR-201008114, Auburn Township, Susquehanna County, Pa.; Consumptive Use of up to 3.575 mgd; Approval Date: August 16, 2010.

114. Anadarko E&P Company, LP, Pad ID: Nevin L Smith Pad A, ABR-201008115, Gamble Township, Lycoming County, Pa.; Consumptive Use of up to 3.000 mgd; Approval Date: August 16, 2010.

115. Anadarko E&P Company, LP, Pad ID: Michael R Fulkerson Pad A, ABR-201008116, Cogan House Township, Lycoming County, Pa.; Consumptive Use of up to 3.000 mgd; Approval Date: August 16, 2010.

116. East Resources Management, LLC, Pad ID: Old Possessions Hunting Club 485, ABR-201008117, Sullivan Township, Tioga County, Pa.; Consumptive Use of up to 4.000 mgd; Approval Date: August 17, 2010.

117. EOG Resources, Inc. Pad ID: WENGER Pad, ABR-201008118, Springfield Township, Bradford County, Pa.; Consumptive Use of up to 4.999 mgd; Approval Date: August 16, 2010.

118. EOG Resources, Inc. Pad ID: MICCIO 1H Pad, ABR-201008119, Ridgebury Township, Bradford County, Pa.; Consumptive Use of up to 4.999 mgd; Approval Date: August 17, 2010.

119. EOG Resources, Inc., Pad ID: MacBride Pad, ABR-201008120, Smithfield Township, Bradford County, Pa.; Consumptive Use of up to 4.999 mgd; Approval Date: August 17, 2010.

120. Talisman Energy USA, Inc., Pad ID: 05 016 Warner, ABR-201008121, Stevens Township, Bradford County, Pa.; Consumptive Use of up to 6.000 mgd; Approval Date: August 17, 2010.

121. Talisman Energy USA, Inc., Pad ID: 05 044 O'Gorman, ABR-201008122, Warren Township, Bradford County, Pa.; Consumptive Use of up to 6.000 mgd; Approval Date: August 17, 2010.

122. Cabot Oil & Gas Corporation, Pad ID: WarrinerR P4, ABR-201008123, Dimock Township, Susquehanna County, Pa; Consumptive Use of up to 3.575 mgd; Approval Date: August 17, 2010.

123. Talisman Energy USA, Inc., Pad ID: 05 046 O'Rourke, ABR-201008124, Warren Township, Bradford County, Pa.; Consumptive Use of up to 6.000 mgd; Approval Date: August 17, 2010.

124. EOG Resources, Inc., Pad ID: Chapman Pad, ABR-201008125, Springfield Township, Bradford County, Pa.; Consumptive Use of up to 4.999 mgd; Approval Date: August 17, 2010.

125. East Resources Management, LLC, Pad ID: Appold 493, ABR-201008126, Sullivan Township, Tioga County, Pa.; Consumptive Use of up to 4.000 mgd; Approval Date: August 18, 2010.

126. EOG Resources, Inc., Pad ID: WATSON Pad, ABR-201008127, Springfield Township, Bradford County, Pa.; Consumptive Use of up to 4.999 mgd; Approval Date: August 18, 2010.

127. Talisman Energy USA, Inc., Pad ID: 01 086 Brelsford, ABR-201008128, Armenia Township, Bradford County, Pa.; Consumptive Use of up to 6.000 mgd; Approval Date: August 18, 2010.

128. Talisman Energy USA, Inc., Pad ID: 05 005 Ayers, ABR-201008129, Orwell Township, Bradford County, Pa.; Consumptive Use of up to 6.000 mgd; Approval Date: August 18, 2010.

129. EQT Production Company, Pad ID: Phoenix E, ABR-201008130, Duncan Township, Tioga County, Pa.; Consumptive Use of up to 3.000 mgd; Approval Date: August 18, 2010.

130. Hess Corporation, Pad ID: Kraft, ABR-201008131, Starrucca Borough, Wayne County, Pa.; Consumptive Use of up to 6.000 mgd; Approval Date: August 19, 2010.

131. Hess Corporation, Pad ID: Steinberg 1H, ABR-201008132, Preston Township, Wayne County, Pa.; Consumptive Use of up to 6.000 mgd; Approval Date: August 19, 2010.

132. Hess Corporation, Pad ID: Gerhard, ABR-201008133, Scott Township, Wayne County, Pa.; Consumptive Use of up to 6.000 mgd; Approval Date: August 19, 2010.

133. Cabot Oil & Gas Corporation, Pad ID: StockholmK P2, ABR-201008134, Rush Township, Susquehanna County, Pa.; Consumptive Use of up to 3.575 mgd; Approval Date: August 19, 2010.

134. East Resources Management, LLC, Pad ID: Kinnan 845, ABR-201008135, Middlebury Township, Tioga County, Pa.; Consumptive Use of up to 4.000 mgd; Approval Date: August 19, 2010.

135. Ultra Resources, Inc., Pad ID: Ritter 828, ABR-201008136, Gaines Township, Tioga County, Pa.; Consumptive Use of up to 4.990 mgd; Approval Date: August 19, 2010.

136. Carrizo Marcellus, LLC, Pad ID: Baker 2H, ABR-201008137 Forest Lake Township, Susquehanna County, Pa.; Consumptive Use of up to 1.400 mgd; Approval Date: August 20, 2010.

137. Citrus Energy, Pad ID: Mirabelli Pad 1-1H, ABR-201008138, Washington Township, Wyoming County, Pa.; Consumptive Use of up to 5.000 mgd; Approval Date: August 20, 2010.

138. Chesapeake Appalachia, LLC, Pad ID: Bedford, ABR-201008139 Elkland Township, Sullivan County, Pa.; Consumptive Use of up to 7.500 mgd; Approval Date: August 20, 2010.

139. Chesapeake Appalachia, LLC, Pad ID: Thall, ABR-201008140, Albany Township, Bradford County, Pa.; Consumptive Use of up to 7.500 mgd; Approval Date: August 20, 2010.

140. Talisman Energy USA, Inc., Pad ID: Carpenter 03 023, ABR-201008141, Columbia Township, Bradford County, Pa.; Consumptive Use of up to 6.000 mgd; Approval Date: August 20, 2010.

141. Seneca Resources Corporation, Pad ID: DCNR Tract 001 1H, ABR-201008142, Sweden Township, Potter County, Pa.; Consumptive Use of up to 4.000 mgd; Approval Date: August 23, 2010, including a partial waiver of 18 CFR § 806.15.

142. Anadarko E&P Company, LP, Pad ID: Scott E Ely Pad A, ABR-201008143, Gamble Township, Lycoming County, Pa.; Consumptive Use of up to 3.000 mgd; Approval Date: August 23, 2010.

143. Anadarko E&P Company, LP, Pad ID: Frank L Hartley Pad A, ABR-201008144, Cogan House Township, Lycoming County, Pa.; Consumptive Use of up to 3.000 mgd; Approval Date: August 23, 2010.

144. Chesapeake Appalachia, LLC, Pad ID: Clarke, ABR-201008145, Overton Township, Bradford County, Pa.; Consumptive Use of up to 7.500 mgd; Approval Date: August 23, 2010.

145. Chesapeake Appalachia, LLC, Pad ID: Benspond, ABR-201008146, Elkland Township, Sullivan County, Pa.; Consumptive Use of up to 7.500 mgd; Approval Date: August 23, 2010.

146. Chesapeake Appalachia, LLC, Pad ID: Fremar, ABR-201008147, Fox Township, Sullivan County, Pa.; Consumptive Use of up to 7.500 mgd; Approval Date: August 23, 2010.

147. Chesapeake Appalachia, LLC, Pad ID: Hottenstein, ABR-201008148, Forks Township, Sullivan County, Pa.; Consumptive Use of up to 7.500 mgd; Approval Date: August 23, 2010.

148. Chesapeake Appalachia, LLC, Pad ID: Balent NEW, ABR-201008149, Wysox Township, Bradford County, Pa.; Consumptive Use of up to 7.500 mgd; Approval Date: August 23, 2010.

149. Talisman Energy USA, Inc., Pad ID: 01 084 O'Reilly, ABR-201008150, Granville Township, Bradford County, Pa.; Consumptive Use of up to 6.000 mgd; Approval Date: August 25, 2010.

150. Talisman Energy USA, Inc., Pad ID: 05 067 Green Newland LLC, ABR-201008151, Warren Township, Bradford County, Pa.; Consumptive Use of up to 6.000 mgd; Approval Date: August 25, 2010.

151. Talisman Energy USA, Inc., Pad ID: 05 026 Strope, ABR-201008152, Warren Township, Bradford County, Pa.; Consumptive Use of up to 6.000 mgd; Approval Date: August 26, 2010.

152. EOG Resources, Inc., Pad ID: TYLER Pad, ABR-201008153, Springfield Township, Bradford County, Pa.; Consumptive Use of up to 4.999 mgd; Approval Date: August 26, 2010.

153. EOG Resources, Inc., Pad ID: W TYLER Pad, ABR-201008154, Springfield Township, Bradford County, Pa.; Consumptive Use of up to 4.999 mgd; Approval Date: August 26, 2010.

154. EOG Resources, Inc., Pad ID: STURDEVANT 1H Pad, ABR-201008155, Ridgebury Township, Bradford County, Pa.; Consumptive Use of up to 4.999 mgd; Approval Date: August 26, 2010.

155. Citrus Energy, Pad ID: P&G Warehouse 1-1H, ABR-201008156, Meshoppen Township, Wyoming County, Pa.; Consumptive Use of up to 5.000 mgd; Approval Date: August 26, 2010.

156. Chesapeake Appalachia, LLC, Pad ID: McCabe, ABR-201008157, Towanda Township, Bradford County, Pa.; Consumptive Use of up to 7.500 mgd; Approval Date: August 26, 2010.

157. Chesapeake Appalachia, LLC, Pad ID: Wolf, ABR-201008158, Athens Township, Bradford County, Pa.; Consumptive Use of up to 7.500 mgd; Approval Date: August 26, 2010.

Authority: Public Law 91-575, 84 Stat. 1509 et seq., 18 CFR parts 806, 807, and 808.

Dated: September 24, 2010.
Stephanie L. Richardson,
Secretary to the Commission.

[FR Doc. 2010-25267 Filed 10-6-10; 8:45 am]

BILLING CODE 7040-01-P